FEDERAL COMMUNICATIONS COMMISSION

47 CFR Part 15

[ET Docket No. 18-295, GN Docket No. 17-183; DA 20-730; FRS 16942]

Unlicensed Use of the 6 GHz Band

AGENCY: Federal Communications Commission.

ACTION: Petition for Reconsideration Dismissed.

SUMMARY: In this document, the Office of Engineering and Technology dismisses Encina Communications Corporation's Petition for Reconsideration for the final rule published in the Federal Register on May 26, 2020. A Petition for Reconsideration of this order must have been filed within thirty days, i.e. on or by June 25, 2020, to be considered timely. However, the Petition was filed on June 29, 2020, four days late. We therefore dismiss it.

DATES: Request for Petition of Reconsideration for the document published at 85 FR 31390, May 26, 2020, denied July 13, 2020.

ADDRESSES: Federal Communications Commission, 445 12th Street SW, Washington, DC 20554.

FOR FURTHER INFORMATION CONTACT: Nicholas Oros, Office of Engineering and Technology, 202-418-0636, Nicholos.Oros@fcc.gov.

SUPPLEMENTARY INFORMATION: This is a summary of the Commission's Memorandum Opinion and Order, ET Docket No. 18-295, GN Docket No. 17-183, DA 20-730, adopted July 13, 2020, and released July 13, 2020. The full text of this document is available for inspection and copying during normal business hours in the FCC Reference Center (Room CY-A257), 445 12th Street SW, Washington, DC 20554. The full text may also be downloaded at: https://www.fcc.gov/document/oet-dismisses-encina-communications-petition-reconsideration. People with Disabilities: To request materials in accessible formats for people with disabilities (braille, large print, electronic files, audio format), send an email to fcc504@fcc.gov or call the Consumer & Governmental Affairs Bureau at 202-418-0530 (voice), 202-418-0432 (tty).

Federal Communications Commission.
Ronald T. Repasi,
Acting Chief, Office of Engineering and Technology.

[FR Doc. 2020-16153 Filed 7-24-20; 8:45 am]

BILLING CODE 6712-01-P